DEPARTMENT OF COMMERCE

Census Bureau

Annual Capital Expenditures Survey

ACTION: Proposed collection; comment request.

SUMMARY: The Department of Commerce, as part of its continuing effort to reduce paperwork and respondent burden, invites the general public and other Federal agencies to take this opportunity to comment on proposed collections, as required by the Paperwork Reduction Act of 1995, Public Law 104-13 (44 U.S.C. 3506 (c)(2)(A)).

DATES: Written comments must be submitted on or before December 22, 2003.

ADDRESSES: Direct all written comments to Diana Hynek, Departmental Paperwork Clearance Officer, Department of Commerce, Room 6625, 14th and Constitution Avenue, NW., Washington, DC 20230 (or via the Internet at Dhynek@doc.gov).

FOR FURTHER INFORMATION CONTACT: Requests for additional information or copies of the information collection instrument(s) and instructions should be directed to Charles Funk, U.S. Census Bureau, Room 1285-3, Washington, DC 20233-6400, (301) 763-3331 or via the Internet at charles.allen.funk@census.gov.

SUPPLEMENTARY INFORMATION:

I. Abstract

The U.S. Census Bureau plans the continuing information collection for the 2003 Annual Capital Expenditures Survey (ACES). The annual survey collects data on fixed assets and depreciation, sales and receipts, capitalized computer software, and capital expenditures for new and used structures and equipment. The ACES is the sole source of detailed comprehensive statistics on actual business spending by domestic, private, nonfarm businesses operating in the United States. Industrial sectors covered by the survey are based on the 1997 North American Industrial Classification System. Both employer and nonemployer companies are included in the survey.

The Bureau of Economic Analysis, the primary Federal user of our annual program statistics, uses the information in refining and evaluating annual estimates of investment in structures and equipment in the national income and product accounts, compiling annual input-output tables, and computing gross domestic product by industry. The Federal Reserve Board uses the data to improve estimates of investment indicators for monetary policy. The Bureau of Labor Statistics uses the data to improve estimates of capital stocks for productivity analysis.

Industry analysts use these data for market analysis, economic forecasting, identifying business opportunities, product development, and business planning.

The major change from previous ACES is the collection of detailed capital expenditures by type of structure and type of equipment for the 2003 ACES from employer companies. Beginning with the 1998 ACES, these detailed data are collected together every five years. These data are critical to evaluate the comprehensiveness of capital expenditures statistics collected in years for which types of structures and equipment detail are not collected. The detailed structures data will provide a 5-year benchmark for estimates of new construction put in place. The detailed equipment data will provide a periodic measure of expenditures by type of equipment and assist in evaluating estimates of private equipment and software component of nonresidential fixed investment. Discussions are currently taking place with data users on the level of detailed type of structures and type of equipment data to be collected.

II. Method of Collection

The Census Bureau will use mail out/mail back survey forms to collect data. Employer companies will be mailed one of three forms based on their diversity of operations and number of industries with payroll. Companies that operate in only one industry will receive an ACE-1 (S) form. Companies operating in more than one, but less than nine industries will receive an ACE-1 (M) form. And, companies that operate in nine or more industries will receive an ACE-1 (L). All nonemployer companies will receive ACE-2 forms. Respondent companies are permitted to respond via facsimile machine using our toll-free number. Companies will be asked to respond to the survey within 30 days of the initial mailing. Letters and/or telephone calls encouraging participation will be directed to companies that have not responded by the designated time.

III. Data

OMB Number: 0607-0782.

Form Number: ACE-1(S), ACE-1(M), ACE-1(L), and ACE-2.

Type of Review: Regular Review.

Affected Public: Business or other for-profit organizations, non-profit institutions, small businesses or organizations, and self-employed individuals.

Estimated Number of Respondents: Approximately 61,000 (46,000 employer companies, and 15,000 nonemployer businesses).

Estimated Time Per Response: The average for all respondents is 3.33 hours. For employer companies completing form ACE-1, the range is from 2 to 28 hours, averaging 4.09 hours. For nonemployer companies completing form ACE-2, the range is less than 1 hour to 2 hours, averaging 1 hour.

Estimated Total Annual Burden Hours: 203,000 hours.

Estimated Total Annual Cost to Respondents: $4 million.

Respondents' Obligation: Mandatory.

Legal Authority: Title 13 United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 18, 2003.
Madeleine Clayton,
Management Analyst, Office of the Chief Information Officer.

[FR Doc. 03-26663 Filed 10-21-03; 8:45 am]

BILLING CODE 3510-07-P